ENVIRONMENTAL PROTECTION AGENCY

40 CFR Part 63

[EPA-HQ-OAR-2015-0730; FRL-9958-24-OAR]

RIN 2060-AS93

National Emission Standards for Hazardous Air Pollutants: Nutritional Yeast Manufacturing Risk and Technology Review

AGENCY: Environmental Protection Agency (EPA).

ACTION: Proposed rule; Notice of public hearing and extension of comment period.

SUMMARY: On December 28, 2016, the Environmental Protection Agency (EPA) published a notice to announce its proposed amendments to the National Emission Standards for Hazardous Air Pollutants for the Manufacturing of Nutritional Yeast source category. The notice also requested public comment on the proposed amendments. The EPA is announcing that a public hearing will be held. In addition, the EPA is extending the public comment period.

DATES: The public hearing will be held on January 25, 2017. Written comments must be received on or before February 24, 2017.

ADDRESSES: The public hearing will be held on January 25, 2017, at the EPA's North Carolina campus located at 109 T.W. Alexander Drive, Research Triangle Park, NC 27711. The hearing will convene at 10:00 a.m. (Eastern Time) and will conclude no later than 4:00 p.m. (Eastern Time). If there are no additional registered speakers, the EPA will end the hearing 2 hours after the last registered speaker has concluded their comments. The EPA will make every effort to accommodate all speakers. The EPA's Web site for the rulemaking, which includes the proposal and information about the hearing, can be found at: https://www.epa.gov/stationary-sources-air-pollution/manufacturing-nutritional-yeast-national-emission-standards.

For information on submitting your written comments, refer to the proposed reconsideration notice published at 81 FR 95810 in the Federal Register on December 28, 2016.

FOR FURTHER INFORMATION CONTACT: If you would like to present oral testimony at the public hearing, registration will begin on January 13, 2017. To register to speak at a hearing, please contact Aimee St. Clair at (919) 541-1063 or at stclair.aimee@epa.gov. The last day to pre-register to present oral testimony in advance will be January 23, 2017. If using email, please provide the following information: The time you wish to speak, name, affiliation, address, email address, and telephone number. Time slot preferences will be given in the order requests are received. Additionally, requests to speak will be taken the day of the hearing at the hearing registration desk, although preferences on speaking times may not be able to be fulfilled. Please note that registration requests received before each hearing will be confirmed by the EPA via email. We cannot guarantee that we can accommodate all timing requests and will provide requestors with the next available speaking time, in the event that their requested time is taken. Please note that the time outlined in the confirmation email received will be the scheduled speaking time. Again, depending on the flow of the day, times may fluctuate. Please note that any updates made to any aspect of the hearing will be posted online at: https://www.epa.gov/stationary-sources-air-pollution/manufacturing-nutritional-yeast-national-emission-standards. While the EPA expects the hearing to go forward as set forth above, we ask that you monitor our Web site or contact Aimee St. Clair at (919) 541-1063 or at stclair.aimee@epa.gov to determine if there are any updates to the information on the hearing. The EPA does not intend to publish a notice in the Federal Register announcing any such updates.

Questions concerning the rule that was published in the Federal Register on December 28, 2016, should be addressed to Allison Costa, Office of Air Quality Planning and Standards, Sector Policies and Programs Division (E140), Environmental Protection Agency, Research Triangle Park, North Carolina 27711; telephone number:(919) 541-1322; facsimile number: (919) 541-3470; email address: costa.allison@epa.gov.

Public hearing: The proposal for which the EPA is holding the public hearing was published in the Federal Register on December 28, 2016, and is available at: https://www.epa.gov/stationary-sources-air-pollution/manufacturing-nutritional-yeast-national-emission-standards, and also in Docket ID No. EPA-HQ-OAR-2015-0730. The public hearing will provide interested parties the opportunity to present oral comments regarding the EPA's proposed standards, including data, views, or arguments concerning the proposal. The EPA may ask clarifying questions during the oral presentations, but will not respond to the presentations at that time. Written statements and supporting information submitted during the comment period will be considered with the same weight as any oral comments and supporting information presented at the public hearing. The period for providing written comments to the EPA will remain open until February 24, 2017.

Commenters should notify Aimee St. Clair if they will need specific equipment or if there are other special needs related to providing comments at the public hearing. The EPA will provide equipment for commenters to make computerized slide presentations if we receive special requests in advance. Oral testimony will be limited to 5 minutes for each commenter. The EPA encourages commenters to submit to the docket a copy of their oral testimony electronically (via email or CD) or in hard copy form.

Because the hearing will be held at a U.S. government facility, individuals planning to attend the hearing should be prepared to show valid picture identification to the security staff in order to gain access to the meeting room. Please note that the REAL ID Act, passed by Congress in 2005, established new requirements for entering federal facilities. If your driver's license is issued by Minnesota, Missouri or the State of Washington, you must present an additional form of identification to enter the federal building. Acceptable alternative forms of identification include: Federal employee badges, passports, enhanced driver's licenses, and military identification cards. In addition, you will need to obtain a property pass for any personal belongings you bring with you. Upon leaving the building, you will be required to return this property pass to the security desk. No large signs will be allowed in the building, cameras may only be used outside of the building, and demonstrations will not be allowed on federal property for security reasons.

The public hearing schedule, including lists of speakers, will be posted on the EPA's Web site at: https://www.epa.gov/stationary-sources-air-pollution/manufacturing-nutritional-yeast-national-emission-standards. Verbatim transcripts of the hearing and written statements will be included in the docket for the rulemaking. The EPA will make every effort to follow the schedule as closely as possible on the day of the hearing; however, please plan for the hearing to run either ahead of schedule or behind schedule.

How can I get copies of this document and other related information?

The EPA has established a docket for the proposed rule, “National Emission Standards for Hazardous Air Pollutants: Nutritional Yeast Manufacturing Risk and Technology Review,” under Docket ID No. EPA-HQ-OAR-2015-0730, available at http://www.regulations.gov.

Dated: January 9, 2017.
Mary Henigin,
Acting Director, Office of Air Quality Planning and Standards.

[FR Doc. 2017-00762 Filed 1-12-17; 8:45 am]

BILLING CODE 6560-50-P